DEPARTMENT OF HEALTH AND HUMAN SERVICES

National Institutes of Health

Center for Scientific Review; Amended Notice of Meeting

Notice is hereby given of a change in the meeting of the Center for Scientific Review Special Emphasis Panel, November 1, 2019 at the Center for Scientific Review, National Institutes of Health, 6701 Rockledge Drive, Bethesda, MD 20892 which was published in the Federal Register on October 08, 2019, 84 FR 53743.

The meeting format of the Special Emphasis Panel; U.S.—South Africa Program for Collaborative Biomedical Research—Phase 2 (HIV/AIDS) has been changed to Regular plus Video Conference. The meeting date, time and location remain the same. The meeting is closed to the public.

Dated: October 21, 2019.
Melanie J. Pantoja,
Program Analyst, Office of Federal Advisory Committee Policy.

[FR Doc. 2019-23285 Filed 10-24-19; 8:45 am]

BILLING CODE 4140-01-P